DEPARTMENT OF COMMERCE

National Oceanic and Atmospheric Administration

RIN 0648-XE627

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 123rd Scientific and Statistical Committee (SSC) meeting and its 166th Council meeting to take actions on fishery management issues in the Western Pacific Region. The Council will also hold meetings of its advisory groups, namely: (1) The Guam Regional Ecosystem Advisory Committee (REAC); (2) Commonwealth of the Northern Mariana Islands (CNMI) REAC; (3) Joint Guam and CNMI Marianas Advisory Panel (AP); (4) Fishery Data Collection and Research Committee (FDCRC); (5) Program Planning and Research Standing Committee; and (6) Executive and Budget Standing Committee.

DATES: The meetings will be held between May 31, 2016 and June 10, 2016. For specific dates, times and agendas, see SUPPLEMENTARY INFORMATION.

ADDRESSES: The 123rd SSC will be held at the Council office, 1164 Bishop Street, Suite 1400, Honolulu, HI 96813, phone: (808) 522-8220. The Guam REAC will be held at Hilton Guam Resort and Spa, 202 Hilton Road, Tumon Bay, Guam 96913, phone (671) 646-1835. The CNMI REAC and Joint Guam and CNMI Marianas AP, will be held at Saipan Fiesta Resort and Spa, P.O. Box 501029, Saipan, MP 96950, telephone: (670) 234-6412. The FDCRC, Program Planning and Research Standing Committee, and Executive and Budget Standing Committee will be held at the Hyatt Regency Saipan, Royal Palm Avenue, Micro Beach Road, Garapan, Saipan, MP 96950 Saipan, telephone: (1-670) 234-1234. The first two days of the 166th Council meeting will be held at Saipan Fiesta Resort and Spa, P.O. Box 501029, Saipan, MP 96950, telephone: (670) 234-6412 and the last two days at the Hilton Guam Resort and Spa, 202 Hilton Road, Tumon Bay, Guam 96913, telephone: (671) 646-1835.

FOR FURTHER INFORMATION CONTACT: Kitty M. Simonds, Executive Director, phone: (808) 522-8220.

SUPPLEMENTARY INFORMATION: The 123rd SSC meeting will be held between 8:30 a.m. and 5 p.m. on May 31-June 2, 2016. The Guam REAC will be held on June 2, 2016. The CNMI REAC on June 3, 2016. The Joint Guam and CNMI Marianas AP meeting will be held between 8:30 a.m. and 4 p.m. on June 4, 2016. The FDCRC will be held between 9 a.m. to 12 p.m. on June 4, 2016. The Program Planning and Research Standing Committee will be held between 1 p.m. to 3 p.m. on June 4, 2016. Executive and Budget Standing Committee will be on June 4, 2016, from 3 p.m. to 5 p.m. The 166th Council meeting will be held from 8:30 to 5 p.m. on June 6-7 and 9-10, 2016.

In addition to the agenda items listed here, the Council and its advisory bodies will hear recommendations from Council advisors. Public comment periods will be provided throughout the agendas. The order in which agenda items are addressed may change. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Agenda for 123rd SSC Meeting

Tuesday, May 31, 2016, 8:30 a.m. to 5 p.m.

1. Introductions

2. Approval of Draft Agenda and Assignment of Rapporteurs

3. Status of the 122nd SSC Meeting Recommendations

4. Report from the Pacific Islands Fisheries Science Center Director

5. Insular Fisheries

A. Evaluation of the existing Biological Reference Points Project

B. Jungle histology and size at first maturity for reef fish

C. Public Comment

D. SSC Discussion and Recommendations

Guest Speaker “Scraping Social Media for Unreported Catch”

6. Program Planning

A. Report on the 2015 Annual/SAFE (Stock Assessment and Fishery Evaluation) Report

1. Archipelagic Annual/SAFE Report

2. Pelagic Annual/SAFE Report

B. Evaluation of 2015 catch to 2015 Annual Catch Limits (ACLs)

C. Options for revising the risk determination and uncertainty characterization process (Action Item)

D. Five-year Research Priorities

E. Climate Change

1. Pacific Islands Region Climate Action Plan

2. Pacific Islands Region Fish Stock Climate Vulnerability Assessment

F. Cooperative Research Program

1. Cooperative Research Priorities

2. Cooperative Research Implementation Framework

G. Public Comment

H. SSC Discussion and Recommendations

Wednesday, June 1, 2016, 8:30 a.m. to 5 p.m.

7. Pelagic Fisheries

A. Impact of Effort Limit Area for Purse Seine (ELAPS) on America Samoa Economy

B. Hawaii Shallow-set Observer Coverage

C. Results from Hawaii Small Boat Survey 2014

D. International Fisheries

1. Eastern Pacific Ocean (EPO) bigeye tuna quota

2. Western and Central Pacific Fisheries Commission (WCPFC) Issues

E. International Fishery Meetings

1. Inter-American Tropical Tuna Commission (IATTC) Science Committee

2. IATTC General Advisory Committee/Scientific Subcommittee (GAC/SAS) Meeting

3. IATTC Plenary

4. Quota tracking for Western and Central Pacific Ocean (WCPO) and EPO bigeye quotas

F. Public Comment

G. SSC Discussion and Recommendations

8. Protected Species

A. Report of the Protected Species Advisory Committee Meeting

B. Update on Pacific Islands Fisheries Science Center (PIFSC) Marianas Cetacean Surveys

C. Updates on Endangered Species Act and Marine Mammal Protection Act Actions

1. Green Turtle Listing Final Rule

2. Humpback Whale Listing Final Rule

3. Other Actions

D. Public Comment

E. SSC Discussion and Recommendations

Thursday, June 2, 2016, 8:30 a.m. to 5 p.m.

9. Other Business

A. 124th SSC Meeting

10. Summary of SSC Recommendations to the Council

Agenda for the Guam REAC

Thursday, June 2, 2016, 8:30 a.m. to 3 p.m.

1. Fishery Ecosystem Plan (FEP) Review and Modification Overview

2. Annual Report Modification Overview and Process

3. Highlights from 2015 Annual Report Draft

A. Fishery Data

B. Biomass and Life History

C. Protected Species

D. Socioeconomics

E. Habitat

4. WPFMC Committees Review of Annual Report and Recommendations

5. Chapter 3 Data Integration: Initial Discussion

6. Public Comment

7. Other Business

8. REAC Discussion and Recommendations

Agenda for CNMI REAC

Friday, June 3, 2016, 1 p.m. to 5 p.m.

1. FEP Review and Modification Overview

2. Annual Report Modification Overview and Process

3. Highlights from 2015 Annual Report Draft

A. Fishery Data

B. Biomass and Life History

C. Protected Species

D. Socioeconomics

E. Habitat

4. WPFMC Committees Review of Annual Report and Recommendations

5. Chapter 3 Data Integration: Initial Discussion

6. Public Comment

7. Other Business

8. REAC Discussion and Recommendations

Agenda for Joint Marianas AP

Saturday, June 4, 2016, 8:30 a.m. to 4 p.m.

1. Welcome and Introductions

2. Outstanding Council Mariana Recommendations

3. Council Issues

A. Regional Research Needs

B. Options for Revising the Risk Determination and Uncertainty Characterization Process

4. Mariana Archipelago FEP Community Activities

A. CNMI

B. Guam

5. Mariana FEP AP Issues

A. Report of the Guam Subpanels

B. Report of the CNMI Subpanels

C. Other Issues

6. AP Training and Needs

7. Public Comment

8. Discussion and Recommendations

9. Other Business

Agenda for FDCRC

Saturday, June 4, 2016, 9 a.m. to 12 p.m.

1. Welcome Remarks

2. Introductions

3. Update on previous FDCRC recommendations

4. Agency reports on fishery data collection improvement efforts

A. Western Pacific Fishery Management Council

B. Pacific Islands Fisheries Science Center

C. CNMI—Division of Fish and Wildlife

D. Guam—Division of Aquatic and Wildlife Resources

E. Guam—Bureau of Statistics and Plans

F. Hawaii—Division of Aquatic Resources

G. Am. Samoa—Department of Marine and Wildlife Resources

5. Pacific Islands Fisheries Research Program

A. Action on the 2016 proposals

6. Alternative summarization and analytics interface

7. Report on the data requirement for the Annual/SAFE reports

8. Report on FDCRC-Technical Committee

A. Action Items

B. Recommendations

9. Process for monitoring the regional strategic plan

10. FDCRC technical equivalent of Marine States Fisheries Commission

11. Public Comment

12. Discussions and Recommendations

13. Adjourn

Agenda for Program Planning and Research Standing Committee

Saturday, June 4, 2016, 1 p.m. to 3 p.m.

1. Welcome and introductions

2. Highlights of the 2015 Annual/SAFE Report

A. Archipelagic Annual/SAFE Report

B. Pelagic Annual/SAFE Report

3. Evaluation of 2015 catch to 2015 ACLs

4. Options for revising the risk determination and uncertainty characterization process (Action Item)

5. Public Comment

6. Standing Committee Discussion & Recommendations

Agenda for Executive and Budget Standing Committee

Saturday, June 4, 2016, 3 p.m. to 5 p.m.

1. Administrative Report

2. Financial Report

3. Statement of Organization Practices and Procedures

4. Regional Operating Agreement Essential Fish Habitat (EFH) Policy

5. SSC Three Year Plan

6. Meetings and Workshops

7. Council Family Changes

8. Other Issues

9. Public Comment

10. Committee Discussion and Recommendations

Agenda for the 166th Council Meeting

Monday, June 6, 2016, 8:30 a.m. to 5 p.m.

1. Opening Ceremony and Introductions

2. Opening Remarks from Honorable Governor Ralph DLG Torres

3. Approval of the 166th Agenda

4. Approval of the 165th Meeting Minutes

5. Executive Director's Report

6. Agency Reports

A. National Marine Fisheries Service

1. Pacific Islands Regional Office

a. Transfer of submerged lands to CNMI

b. Draft Monument Management Plan

2. Pacific Islands Fisheries Science Center

B. NOAA Regional Counsel

1. Report on Compact Impact Related to Fishing

C. U.S. Fish and Wildlife Service

D. Enforcement

1. U.S. Coast Guard

2. NMFS Office for Law Enforcement

3. NOAA General Counsel for Enforcement and Litigation

E. Public Comment

F. Council Discussion and Action

7. Mariana Archipelago—Part 1: CNMI

A. Arongol Falú

B. Legislative Report

C. Enforcement Issues

D. Report on CNMI Fisheries

1. Coral Reef Fisheries

2. Bottomfish Fisheries

3. Pelagic Fisheries

E. Report on Bio-Sampling Program

F. Report on Database Analytics Project

G. Report on CNMI Projects

1. Territory Science Initiative

2. Marine Recreational Improvement Program

H. Community Activities and Issues

1. Northern Islands Community-based Marine Resource Management Plan

I. Education and Outreach Initiatives

1. Report of the Lunar Calendar

J. Advisory Group Reports and Recommendations

K. SSC Recommendations

L. Public Comment

M. Council Discussion and Action

8. Program Planning and Research

A. Highlights of the 2015 Annual/SAFE Report

1. Archipelagic Annual/SAFE Report

2. Pelagic Annual/SAFE Report

B. Evaluation of 2015 catch to 2015 ACLs

C. Options for Revising the Risk Determination and Uncertainty Characterization Process (Action Item)

D. Council Five-Year Research Priorities

E. Cooperative Research Program

1. Cooperative Research Priorities

2. Cooperative Research Implementation Framework

F. Report on National EFH Summit

G. Regional, National, International Education and Outreach

H. Advisory Body Reports and Recommendations

I. SSC Recommendations

J. Standing Committee Recommendations

K. Public Hearing

L. Council Discussion and Action

Monday, June 6, 2016, 6 p.m. to 9 p.m.

Fishers Forum—Data, data everywhere, but not a megabyte to eat.

Tuesday, June 7, 2016, 8:30 a.m. to 5 p.m.

9. Protected Species

A. Report on the Mariana Islands Sea Turtle Programs

B. Update on PIFSC Marianas Cetacean Surveys

C. Updates on Endangered Species Act and Marine Mammal Protection Act Actions

1. Green Turtle Listing Revision

2. Humpback Whale Listing Final Rule

3. Other Actions

D. Advisory Body Reports and Recommendations

E. SSC Recommendations

F. Public Comment

G. Council Discussion and Action

10. American Samoa Archipelago

A. Motu Lipoti

B. Fono Report

C. Enforcement Issues

D. Community Activities and Issues

1. NOAA Pacific Island Regional Planning Body (PIRPB) Meetings Held in American Samoa

a. PIRPB

b. American Samoa Planning Team

c. Public Listening Session

2. Fagatogo Fish Market Lease

E. 17th Annual I'a Lapo'a Game Fish Tournament

F. Education and Outreach Initiatives

G. Advisory Group Report and Recommendations

H. SSC Recommendations

I. Public Comment

J. Council Discussion and Action

11. Public Comment on Non-Agenda Items

Thursday, June 9, 2016, 8:30 a.m. to 5 p.m.

Welcoming Remarks from the Honorable Governor Eddie Calvo

12. Marianas Archipelago—Part 2: Guam

A. Isla Informe

B. Legislative Report

C. Enforcement Issues

D. Report on Guam Fisheries

1. Coral Reef Fisheries

2. Bottomfish Fisheries

3. Pelagic Fisheries

E. Report on Bio-Sampling Program

F. Guam Sea Turtle Management Plan

G. Report on Guam Projects and Programs

1. FAS-Guam Fishing Conflict Study and Report

2. Coral Reef Fisheries Mapping Project

H. Community Development Activities and Issues

1. Malesso Community-based Marine Resource Plan Update

a. Status of Cocos Lagoon PCB assessment

b. Resource Monitoring of Cocos Lagoon Marine Resources

c. Upland and coastal water resource monitoring

d. Zoning initiative for Cocos Lagoon

2. Yigo Draft Community-based Marine Resource Plan

a. Overview of Yigo CBMP plan and outcomes

b. Community input and feedback

3. NOAA Habitat Blue Print

4. Ritidian Point

a. Proposed Firing Range

b. National Wildlife Refuge—Access Issues

I. Education and Outreach Initiatives

1. Report of the Lunar Calendar Festival

2. Festival of the Pacific Arts 2016

J. Advisory Body Reports and Recommendations

K. SSC Recommendations

L. Public Comment

M. Council Discussion and Action

13. Pelagic and International Fisheries

A. Guam and CNMI Small Vessel Pelagic Fisheries

B. Impact of ELAPS on America Samoa Economy

C. Hawaii Shallow-set Observer Coverage (Action Item)

D. International Fisheries

1. EPO bigeye tuna quota

2. WCPFC Issues

3. Quota tracking for WCPO and EPO bigeye quotas

E. International Fishery Meetings

1. IATTC Science Committee

2. IATTC GAC/SAS Meeting

3. IATTC Plenary

F. Advisory Group Reports and Recommendations

G. SSC Recommendations

H. Public Hearing

I. Council Discussion and Recommendations

14. Public Comment on Non-Agenda Items

Thursday, June 9, 2016, 6 p.m. to 9 p.m.

Fishers Forum—Mapping Fishery Resources

Friday, June 10, 2016, 8:30 a.m. to 5 p.m.

15. Hawaii Archipelago

A. Moku Pepa

B. Legislative Report

C. Enforcement

D. Documenting the History of the Hawaii Bottomfish Fishery

E. Scraping social media for unreported catch

F. Community Projects, Activities and Issues

1. Proposed Expansion Papahanaumokuakea Marine National Monument

2. Recreational/Non-Commercial Licensing Initiative

3. Hokulea Voyage—Status update on Council Promise to Pae Aina

G. Report on the Aha Moku System

H. Outreach and Education Report

I. Advisory Body Report and Recommendations

J. SSC Recommendations

K. Public Comment

L. Council Discussion and Action

16. Administrative Matters

A. Financial Reports

B. Administrative Reports

C. Council Policies and Agreements

1. SOPP Revision

2. Regional Operating Agreement—EFH Agreement

3. SSC Operational Guidelines and Three-Year Plan

D. Council Family Changes

1. Social Science Planning Committee

E. Meetings and Workshops

1. Council Coordination Committee

2. Other meetings, workshops and conferences

F. Other Business

G. Standing Committee Recommendations

H. Public Comment

I. Council Discussion and Action

17. Other Business

Non-emergency issues not contained in this agenda may come before the Council for discussion and formal Council action during its 166th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 11, 2016.
Jeffrey N. Lonergan,
Acting Deputy Director, Office of Sustainable Fisheries, National Marine Fisheries Service.

[FR Doc. 2016-11480 Filed 5-13-16; 8:45 am]

BILLING CODE 3510-22-P